DEPARTMENT OF TRANSPORTATION

Federal Highway Administration

Multistate Corridor Operations and Management Program

AGENCY: Federal Highway Administration (FHWA), DOT.

ACTION: Notice; correction.

SUMMARY: This document modifies an existing FHWA notice and request for application, originally published on October 21, 2011, at 76 FR 65561. The original notice invited eligible entities to apply for participation in the FHWA Multistate Corridor Operations and Management Program as authorized in 23 U.S.C. 511. This notice and correction clarifies the “How to Apply” process for that notice and request for applications, clarifies the application evaluation criteria for that notice and request for applications, and extends the deadline for submission of proposals for that notice and request for applications. Applications should still be submitted through http://www.grants.gov.

DATES: This action is effective November 21, 2011.

FOR FURTHER INFORMATION CONTACT: For questions about the program discussed herein, contact Mr. Robert Arnold, Director, FHWA Office of Transportation Management, (202) 366-1285, or via email at Robert.Arnold@dot.gov, or Ms. Kate Hartman, Program Manager, RITA Truck and Program Assessment, (202) 366-2742, or via email at Kate.Hartman@dot.gov. For legal questions, please contact Mr. Adam Sleeter, Attorney Advisor, FHWA Office of the Chief Counsel, (202) 366-8839, or via email at Adam.Sleeter@dot.gov. Business hours for the FHWA are from 8 a.m. to 4:30 p.m., e.t., Monday through Friday, except Federal holidays.

SUPPLEMENTARY INFORMATION: On October 21, 2011, at 76 FR 65561, the FHWA issued a notice requesting applications from eligible entities interested in participating in the FHWA Multistate Corridor Operations and Management Program as authorized in 23 U.S.C. 511. This notice clarifies two sections of the notice and extends the deadline for filing an application.

(1) Section 8 of the “How to Apply” section of the notice incorrectly describes the awards as “contracts.” This request for applications may result in award of grants, not contracts. Through this correction, FHWA is removing the word “contracts” from the notice. Section 8 of the “How to Apply” section should now read: “Party or parties to the award—A description of the entity that will be entering into the agreement with FHWA, and a description of how that entity will process or manage the program funds.”

(2) The “Evaluation Criteria” section of the original notice does not explicitly state that only State departments of transportation are eligible to apply for this program. Through this correction notice, Section 5 of the “Evaluation Criteria” is clarified to explain to potential applicants that State departments of transportation are the only eligible applicants for this program. Section 5 of the “Evaluation Criteria” should now read: “Organizational structure and commitments—depth, clarity, and potential effectiveness of the organization's structure; evidence of commitments by key partners to participate. Only State departments of transportation are eligible to apply. Non-State departments of transportation may partner with State entities to submit an application.”

(3) The deadline to submit an application for this program is extended to January 3, 2012.

Authority: 23 U.S.C. 511; Section 5211 of SAFETEA-LU (Pub. L. 109-59; 119 Stat. 1144).

Issued on: November 9, 2011.
Victor M. Mendez,
Administrator.

[FR Doc. 2011-29972 Filed 11-18-11; 8:45 am]

BILLING CODE 4910-22-P